DEPARTMENT OF AGRICULTURE

Submission for OMB Review; Comment Request

September 14, 2021.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 18, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: 7 CFR 766, Direct Loan Servicing—Special.

OMB Control Number: 0560-0233.

Summary of Collection: The Farm Service Agency's (FSA) Farm Loan Programs provide loans to family farmers to purchase real estate and equipment and finance agricultural production. The regulation in the 7 CFR 766, Direct Loan Servicing—Special provides the requirements for servicing financially distressed and delinquent direct loan borrowers. The loan servicing options include disaster set-aside, primary loan servicing (including reamortization, rescheduling, deferral, write down and conservation contracts), buyout at market value, and homestead protection. FSA also services borrowers who file bankruptcy or liquidate security when available servicing options are not sufficient to produce a feasible plan. The information collections contained in the regulation are necessary to evaluate a borrower's request for consideration of the special servicing actions.

Need and Use of the Information: Information collections are submitted by FLP direct loan borrowers to the local FSA office serving the country in which their business is headquartered. The information is necessary to provide supervised credit and authorized servicing actions to financially distressed and delinquent direct borrowers as legislatively mandated. If the information were not collected, or collected less frequently, FSA would be unable to meet the mandated mission of its loan program required by Congress.

Description of Respondents: Individuals or households; Business or other for-profit; Farms.

Number of Respondents: 17,174.

Frequency of Responses: Reporting: On occasion; Annually.

Total Burden Hours: 12,221.

Ruth Brown,
Departmental Information Collection Clearance Officer.

[FR Doc. 2021-20096 Filed 9-16-21; 8:45 am]

BILLING CODE 3410-05-P